DEPARTMENT OF VETERANS AFFAIRS

[OMB Control No. 2900-0590]

Proposed Information Collection Activity: Proposed Collection; Comment Request

AGENCY: Office of Acquisition and Materiel Management, Department of Veterans Affairs.

ACTION: Notice.

SUMMARY: The Office of Acquisition and Materiel Management (OA&MM), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to ensure that VA will not be held liable for any negligent acts of the contractor or its employees and ensures that VA and VA beneficiaries are protected by adequate insurance coverage.

DATES: Written comments and recommendations on the proposed collection of information should be received on or before November 27, 2001. 1

ADDRESSES: Submit written comments on the collection of information to Donald E. Kaliher, Office of Acquisition and Materiel Management (95A), Department of Veterans Affairs, 810 Vermont Avenue, NW, Washington, DC 20420 or e-mail donald.kaliher@mail.va.gov. Please refer to “OMB Control No. 2900-0590” in any correspondence.

FOR FURTHER INFORMATION CONTACT: Donald E. Kaliher at (202) 273-8819.

SUPPLEMENTARY INFORMATION: Under the PRA of 1995 (Public Law 104-13; 44 U.S.C., 3501—3520), Federal agencies must obtain approval from the Office of Management and Budget (OMB) for each collection of information they conduct or sponsor. This request for comment is being made pursuant to Section 3506(c)(2)(A) of the PRA.

With respect to the following collection of information, OA&MM invites comments on: (1) Whether the proposed collection of information is necessary for the proper performance of OA&MM's functions, including whether the information will have practical utility; (2) the accuracy of OA&MM's estimate of the burden of the proposed collection of information; (3) ways to enhance the quality, utility, and clarity of the information to be collected; and (4) ways to minimize the burden of the collection of information on respondents, including through the use of automated collection techniques or the use of other forms of information technology.

Titles

a. Veterans Affairs Acquisition Regulation Clauses 852.237-73, Indemnification and Medical Liability Insurance.

b. Veterans Affairs Acquisition Regulation Clauses 852.237-71, Indemnification and Insurance.

c. Veterans Affairs Acquisition Regulation Clauses 852.207-70, Report of Employment Under Commercial Activities.

OMB Control Number: 2900-0590.

Type of Review: Revision of a currently approved collection.

Abstract: For VA Acquisition Regulation Clauses 852.237-7 and 852.237-71, failure to collect the information would have a negative impact on VA's ability to ensure that VA will not be held liable for any negligent acts of the contractor and that VA beneficiaries and the public are protected by adequate insurance coverage. For clause 852.207-70, failure to collect the data could have a negative impact on VA employees who are displaced as the result of award of a contract to a commercial firm and would make it difficult for VA to enforce the requirements of Federal Acquisition Regulation clause 52.207-3, Right of First Refusal of Employment.

Affected Public: Business or other for-profit; Individuals and households; Not-for-profit institutions, and State, Local or Tribal Government.

Estimated Annual Burden: 1,300 hours.

Estimated Average Burden Per Respondent: 30 minutes.

Frequency of Response: On occasion.

Estimated Number of Respondents: 2,200.

Number of Responses Annually: 2,600.

Dated: September 10, 2001.
By direction of the Secretary:
Barbara H. Epps,
Management Analyst, Information Management Service.

[FR Doc. 01-23891 Filed 9-27-01; 8:45 am]

BILLING CODE 8320-01-P